FEDERAL MARITIME COMMISSION

[Petition No. P7-03]

Petition of Ocean World Lines, Inc., for a Rulemaking To Amend and Expand the Definition and Scope of “Special Contracts” To Include All Ocean Transportation Intermediaries; Notice of Filing

Notice is hereby given that Ocean World Lines, Inc. (“Petitioner”) has petitioned for the issuance of a rulemaking pursuant to 46 CFR 502.51. Petitioner seeks a rulemaking to address and evaluate the impact of the Commission's rules governing Ocean Transportation Intermediaries (“OTIs”). Specifically, Petitioner seeks a rulemaking that would expand the definition and scope of the term “special contracts” to include all OTIs in the same manner as currently applied to ocean freight forwarders (46 CFR 515.41(c)). Petitioner advises that it filed its Petition in response to petitions P3-03, Petition of United Parcel Service, Inc. for Exemption Pursuant to Section 16 of the Shipping Act of 1984 to Permit Negotiation, Entry and Performance of Service Contracts, and P5-03, Petition of National Customs Brokers and Forwarders Association of America, Inc., for Limited Exemption from Certain Tariff Requirements of the Shipping Act of 1984. Petitioner asserts that its Petition will

Provide the Commission with the regulatory ability to act on the issue of shielding some non-vessel-operating common carrier (“NVOCC”) rates even if it determines that its statutory exemption authority does not extend to those elements of the statutory regime that Congress addressed directly in the Ocean Shipping Reform Act of 1998; and in so doing, provide NVOCCs with the ability to enter into rate agreements that are shielded from public view by their competitors without recourse to service contracts or a broad-ranging tariff exemption and to ameliorate the marketplace dysfunction caused by the transparent/opaque rate dichotomy that exists in the trade today.

In order for the Commission to make a thorough evaluation of the Petition, interested persons are requested to submit views or arguments in reply to the petition no later than October 10, 2003. Replies shall consist of an original and 15 copies, be directed to the Secretary, Federal Maritime Commission, 800 North Capitol Street, NW., Washington, DC 20573-0001, and be served on Petitioner's counsel Leonard L. Fleisig, Esq., Troutman Sanders LLP, 401 Ninth Street, NW., Suite 1000, Washington, DC 20004. It is also requested that a copy of the reply be submitted in electronic form (WordPerfect, Word or ASCII) on diskette or e-mailed to secretary@fmc.gov. The Petition will be posted on the Commission's Home page at http://www.fmc.gov/Docket%20Log/Docket%20Log%20Index.htm. All replies filed in response to the Petition will also be posted on the Commission's Home page at this location.¹ Copies of the Petition also may be obtained by sending a request to the Office of the Secretary, Room 1046, or by calling (202) 523-5725. Parties participating in this proceeding may elect to receive service of the Commission's issuances in this proceeding through e-mail in lieu of service by U.S. mail. A party opting for electronic service shall advise the Office of the Secretary in writing and provide an e-mail address where service can be made. Such request should be directed to secretary@fmc.gov.

¹ Copies of replies to Petition Nos. P3-03, P5-03, P8-03, and P9-03 are also available on the Commission's homepage at the address listed above.

Bryant L. VanBrakle,
Secretary.

[FR Doc. 03-24183 Filed 9-22-03; 8:45 am]

BILLING CODE 6730-01-P